DEPARTMENT OF COMMERCE

National Oceanic and Atmospheric Administration

[I.D. 100603D]

Marine Mammals; File No.753-1599

AGENCY: National Marine Fisheries Service (NMFS), National Oceanic and Atmospheric Administration (NOAA), Commerce.

ACTION: Receipt of application for amendment.

SUMMARY: Notice is hereby given that Jim Darling, Ph.D., 2155 West 13th Avenue, Vancouver, B.C. VOR 2ZO, Canada, has requested an amendment to scientific research Permit No. 753-1599-00.

DATES: Written or telefaxed comments must be received on or before November 17, 2003.

ADDRESSES: The amendment request and related documents are available for review upon written request or by appointment in the following office(s):

Permits, Conservation and Education Division, Office of Protected Resources, NMFS, 1315 East-West Highway, Room 13705, Silver Spring, MD 20910; phone (301)713-2289; fax (301)713-0376;

Alaska Region, NMFS, P.O. Box 21668, Juneau, AK 99802-1668; phone (907)586-7221; fax (907)586-7249; and

Protected Species Coordinator, Pacific Area Office, NMFS, 1601 Kapiolani Blvd., Rm, 1110, Honolulu, HI 96814-4700; phone (808)973-2935; fax (808)973-2941. Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period. Please note that comments will not be accepted by e-mail or other electronic media.

FOR FURTHER INFORMATION CONTACT: Jill Lewandowski, (301)713-2289.

SUPPLEMENTARY INFORMATION: The subject amendment to Permit No. 753-1599-00, issued on January 10, 2001 (66 FR 1957-1958), is requested under the authority of the Marine Mammal Protection Act of 1972, as amended (16 U.S.C. 1361 et seq.), the Regulations Governing the Taking and Importing of Marine Mammals (50 CFR part 216), the Endangered Species Act of 1973, as amended (16 U.S.C. 1531 et seq.), and the regulations governing the taking, importing, and exporting of endangered and threatened species (50 CFR 222-226).

Permit No. 753-1599-00 authorizes the permit holder to conduct studies on the mating behavior, social organization and behavioral ecology of humpback whales (Megaptera novaeangliae) and gray whales (Eschrichtius robustus) in the state waters of Alaska, Hawaii, Oregon, Washington and California. The current permit expires on January 1, 2006.

The permit holder is now requesting additional takes for humpback whales only to further study the whales' songs in Hawaiian and Alaskan waters. Specifically, the permit holder is requesting the following additional annual takes: 100 humpback whales through the playback of recorded humpback whale songs, 50 humpback whales through suction cup and implantable tags designed to study the short-term movement patterns of the animals, and 300 humpback whales through harassment incidental to these research activities.

Concurrent with the publication of this notice in the Federal Register, NMFS is forwarding copies of this application to the Marine Mammal Commission and its Committee of Scientific Advisors.

Dated: October 8, 2003.
Jill K. Lewandowski,
Acting Chief, Permits, Conservation and Education Division, Office of Protected Resources, National Marine Fisheries Service.

[FR Doc. 03-26296 Filed 10-16-03; 8:45 am]

BILLING CODE 3510-22-S